ENVIRONMENTAL PROTECTION AGENCY

[FRL-9970-30-Region 3]

Clean Air Act Operating Permit Program; Petition To Object to Title V Permit for Wheelabrator Frackville Energy; Pennsylvania

AGENCY: Environmental Protection Agency (EPA).

ACTION: Notice of final action.

SUMMARY: Pursuant to the Clean Air Act (CAA), the Environmental Protection Agency (EPA) Administrator signed an Order, dated October 6, 2017, denying a petition to object to a title V operating permit, issued by the Pennsylvania Department of Environmental Protection (PADEP) to the Wheelabrator Frackville Energy facility in Schuylkill County, Pennsylvania. The Order responds to an October 15, 2016 petition. The petition was submitted by the Environmental Integrity Project (EIP) and the Sierra Club (Petitioners). This Order constitutes final action on that petition requesting that the Administrator object to the issuance of the proposed CAA title V permit.

ADDRESSES: Copies of the final Order, the petition, and all pertinent information relating thereto are on file at the following location: EPA, Region III, Air Protection Division (APD), 1650 Arch St., Philadelphia, Pennsylvania 19103. EPA requests that if at all possible, you contact the individual listed in the FOR FURTHER INFORMATION CONTACT section to view copies of the final Order, petition, and other supporting information. You may view the hard copies Monday through Friday, from 9 a.m. to 3 p.m., excluding Federal holidays. If you wish to examine these documents, you should make an appointment at least 24 hours before the visiting day. The final Order is also available electronically at the following Web site: https://www.epa.gov/title-v-operating-permits/title-v-petition-database.

FOR FURTHER INFORMATION CONTACT: David Talley, Air Protection Division, EPA Region III, telephone (215) 814-2117, or by email at talley.david@epa.gov.

SUPPLEMENTARY INFORMATION: The CAA affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

The October 15, 2016 petition requested that the Administrator object to the proposed title V operating permit issued by PADEP (Permit No. 54-00005), on the grounds that the proposed permit did not contain adequate monitoring and testing requirements to demonstrate compliance with the particulate matter emission limits contained in the permit.

The Order denying the petition to object to the state operating permit to the Wheelabrator Frackville Energy facility explains the reasons behind EPA's decision to deny the petition for objection.

Dated: October 18, 2017.
Cosmo Servidio,
Regional Administrator, Region III.

[FR Doc. 2017-24215 Filed 11-6-17; 8:45 am]

BILLING CODE 6560-50-P